DEPARTMENT OF JUSTICE

Notice of Lodging of Consent Decree Under the Clean Air Act

Notice is hereby given that on September 28, 2007, a proposed Consent Decree between the United States, the Alabama Department of Environmental Management, the Mississippi Commission on Environmental Quality, Hunt Refining Company and Hunt Southland Refining Company (collectively “Hunt”) was lodged with the United States District Court for the Northern District of Alabama in the case of United States et al. v. Hunt Refining Company et al., Civil Action No. CV-07-P-1777-W.

In a complaint that was filed simultaneously with the Consent Decree, the United States sought a civil penalty and injunctive relief against Hunt for alleged violations of the Clean Air Act, 42 U.S.C. 7401 et seq., and its implementing regulations, in connection with Hunt's petroleum refineries located in Tuscaloosa, Alabama; and Sandersville and Lumberton, Mississippi.

The Consent Decree requires Hunt to implement pollution control technologies to significantly reduce emissions of nitrogen oxides (“NO2”) and sulfur dioxide (“SO2”) from refinery process units, reduce the flaring of process upset gasses, improve leak detection and repair procedures, and improve the management of benzene wastewater streams. Hunt has estimated that this injunctive relief will cost the company approximately $48,500,000. Hunt will pay a civil penalty of $400,000, which the States of Alabama and Mississippi will share, and spend more than $475,000 on supplemental environmental projects to benefit the community and environment. Hunt has agred to upgrade controls to reduce volatile organic compound emissions from the wastewater systems at the Tuscaloosa refinery and will buy emergency preparedness equipment and train mutual aid responders in Choctaw County, Alabama; and Vicksburg, Mississippi. The States of Alabama and Mississippi will join in this settlement as signatories to the Consent Decree.

The Department of Justice will receive for a period of thirty (30) days from the date of this publication comments relating to the proposed Consent Decree. Comments should be addressed to the Assistant Attorney General, Environment and Natural Resources Division, and either e-mailed to pubcomment-ees.enrd@usdoj.gov, or mailed to P.O. Box 7611, U.S. Department of Justice, Washington, D.C. 20044-7611, and should refer to United States et al. v. Hunt Refining Company et al., D.J. Ref. # 90-5-2-1-08392.

The Consent Decree may be examined at U.S. EPA Region 4, 61 Forsyth Street, Atlanta, Georgia 30303 (contact Marlene Tucker). During the public comment period, the Consent Decree also may be examined on the following Department of Justice Web site: http://www.usdoj.gov/enrd/Consent_Decrees.html. A copy of the Consent Decree also may be obtained by mail from the Consent Decree Library, P.O. Box 7611, U.S. Department of Justice, Washington, DC 20044-7611, or by faxing or e-mailing a request to Tonia Fleetwood (tonia.fleetwood@usdoj.gov), fax no. (202) 514-0097, phone confirmation number (202) 514-1547. In requesting a copy from the Consent Decree Library, Please enclose a check in the amount of $31.25 (25 cents per page reproduction cost) payable to the U.S. Treasury, or, if by e-mail or fax, forward a check in that amount to the Consent Decree Library at the stated address.

Robert D. Brook,
Assistant Chief, Environmental Enforcement Section, Environment and Natural Resources Division.

[FR Doc. 07-5129 Filed 10-16-07; 8:45 am]

BILLING CODE 4410-15-M